DEPARTMENT OF TRANSPORTATION

Federal Aviation Administration

14 CFR Part 39

[Docket No. 2001-CE-42-AD; Amendment 39-12695; AD 2002-07-01]

RIN 2120-AA64

Airworthiness Directives; Cessna Aircraft Company P206, TP206, TU206, U206, 207, T207, 210, P210, and T210 Series Airplanes

AGENCY: Federal Aviation Administration, DOT.

ACTION: Final rule.

SUMMARY: This amendment adopts a new airworthiness directive (AD) that applies to certain Cessna Aircraft Company (Cessna) P206, TP206, TU206, U206, 207, T207, 210, P210, and T210 series airplanes. This AD requires you to visually inspect certain horizontal stabilizer attachment reinforcement brackets for the existence of seam welds and replace any reinforcement bracket found without seam welds. This AD authorizes the pilot to check the logbooks to determine whether one of the affected horizontal stabilizer attachment reinforcement brackets is installed. This AD is the result of a report that certain parts were manufactured without seam welds. The actions specified by this AD are intended to detect and replace structurally deficient horizontal stabilizer attachment brackets. Continued use of such brackets could result in structural failure of the horizontal stabilizer with reduced or loss of control of the airplane.

DATES: This AD becomes effective on May 13, 2002.

The Director of the Federal Register approved the incorporation by reference of certain publications listed in the regulations as of May 13, 2002.

ADDRESSES: You may get the service information referenced in this AD from Cessna Aircraft Company, Product Support, P.O. Box 7706, Wichita, Kansas 67277; telephone: (316) 517-5800; facsimile: (316) 942-9006. You may view this information at the Federal Aviation Administration (FAA), Central Region, Office of the Regional Counsel, Attention: Rules Docket No. 2001-CE-42-AD, 901 Locust, Room 506, Kansas City, Missouri 64106; or at the Office of the Federal Register, 800 North Capitol Street, NW, suite 700, Washington, DC.

FOR FURTHER INFORMATION CONTACT: Al Phillips, Aerospace Engineer, Wichita Aircraft Certification Office, FAA, 1801 Airport Road, Mid-Continent Airport, Wichita, Kansas 67209; telephone: (316) 946-4116; facsimile: (316) 946-4407.

SUPPLEMENTARY INFORMATION:

Discussion

What events have caused this AD?

Cessna notified FAA of a defect in the manufacturing of the horizontal stabilizer attachment reinforcement brackets. Cessna manufactured reinforcement brackets without seam welds on certain Cessna Model 206H and T206H airplanes. AD 2001-09-06, Amendment 39-12211 (66 FR 21278, April 30, 2001), addresses these airplanes. The seam welds help provide the required structural integrity for the horizontal stabilizer attachment bracket.

Since the issuance of AD 2001-09-06, Cessna determined that certain Model P206, TP206, TU206, U206, 207, T207, 210, P210, and T210 series airplanes may have had horizontal stabilizer attachment reinforcement brackets (part number 1232624-1) without seam welds installed as replacement parts. Cessna shipped these brackets from February 27, 1998, through March 17, 2000.

What is the potential impact if FAA took no action?

This condition, if not corrected, could result in structural failure of the horizontal stabilizer with reduced or loss of control of the airplane.

Has FAA taken any action to this point?

We issued a proposal to amend part 39 of the Federal Aviation Regulations (14 CFR part 39) to include an AD that would apply to certain Cessna P206, TP206, TU206, U206, 207, T207, 210, P210, and T210 series airplanes. This proposal was published in the Federal Register as a notice of proposed rulemaking (NPRM) on December 17, 2001 (66 FR 64925). The NPRM proposed to require you to visually inspect the right and left horizontal stabilizer attachment reinforcement brackets for the existence of seam welds along the lower inboard and outboard wall/flange. The NPRM also proposed to require you to remove and replace any horizontal stabilizer bracket found without seam welds.

Was the public invited to comment?

The FAA encouraged interested persons to participate in the making of this amendment. We did not receive any comments on the proposed rule or on our determination of the cost to the public.

FAA's Determination

What is FAA's final determination on this issue?

After careful review of all available information related to the subject presented above, we have determined that air safety and the public interest require the adoption of the rule as proposed except for minor editorial corrections. We have determined that these minor corrections:

—Provide the intent that was proposed in the NPRM for correcting the unsafe condition; and

—Do not add any additional burden upon the public than was already proposed in the NPRM.

What are the differences between the service information and this AD?

Cessna requires you to inspect and, if necessary, replace the horizontal stabilizer attachment reinforcement brackets, part number 1232624-1, within 20 hours time-in-service (TIS), not to exceed 30 days, of operation. We are requiring that you inspect and, if necessary, replace the horizontal stabilizer attachment reinforcement brackets, part number 1232624-1, within 50 hours TIS of operation after the effective date of this AD.

We do not have justification to require this action within 20 hours TIS. Compliance times such as this are utilized when we have identified an urgent safety of flight situation. We believe that 50 hours TIS will give the owners/operators of the affected airplanes enough time to have the actions accomplished without compromising the safety of the airplanes.

Cost Impact

How many airplanes does this AD impact?

We estimate that this AD affects 144 airplanes in the U.S. registry.

What is the cost impact of this AD on owners/operators of the affected airplanes?

We estimate the following costs to accomplish the inspection:

Labor cost | Parts cost | Total cost per airplane | Total cost on U.S. operators
2 workhours × $60 = $120. | Not applicable. | $120. | $120 × 144 = $17,280.

We estimate the following costs to accomplish any necessary replacements that will be required based on the results of the inspection. We have no way of determining the number of airplanes that may need such replacement:

Labor cost | Parts cost | Total cost per airplane
24 workhours to replace both brackets × $60 = $1,440 | $135 for both the right and left bracket | $1,440 + $135 = $1,575.

Regulatory Impact

Does this AD impact various entities?

The regulations adopted herein will not have a substantial direct effect on the States, on the relationship between the national government and the States, or on the distribution of power and responsibilities among the various levels of government. Therefore, it is determined that this final rule does not have federalism implications under Executive Order 13132.

Does this AD involve a significant rule or regulatory action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption “ADDRESSES”.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2002-07-01 Cessna Aircraft Company: Amendment 39-12695; Docket No. 2001-CE-42-AD.

(a) What airplanes are affected by this AD? This AD affects the following airplane models and serial numbers that are certificated in any category:

Model | Serial numbers
P206C and TP206C | P206-0420 through P206-0519
P206D and TP206D | P206-0520 through P206-0603
P206E and TP206E | P20600604 through P20600647, and P206-0001
U206C and TU206C | U206-0915 through U206-1234
U206D and TU206D | U206-1235 through U206-1444, U20601445 through U20601587
U206E and TU206E | U20601588 through 20601700
U206F and TU206F | U20601701 through U20602588, and U20602590 through U20603521
U206G and TU206G | 676, U20602589, and U20603522 through U20607020
207 and T207 | 20700001 through 20700362
207A and T207A | 20700363 through 20700788
210G | 21058819 through 21058936
210H | 21058937 through 21059061
210J | 21059062 through 21059199
210K and T210K | 21059200 through 21059502
210L and T210L | 21059503 through 21061041, and 21061043 through 21061573
210M and T210M | 21061042, and 21061574 through 21062954
210N and T210N | 21062955 through 21064897
P210N | P21000001 through P21000834
T210G | T210-0198 through T210-0307
T210H | T210-0308 through T210-0392
T210J | T210-0393 through T210-0454, and 21058140

(b) Who must comply with this AD? Anyone who wishes to operate any of the airplanes identified in paragraph (a) of this AD must comply with this AD.

(c) What problem does this AD address? The actions specified by this AD are intended to detect and replace structurally deficient horizontal stabilizer attachment brackets. Continued use of such brackets could result in structural failure of the horizontal stabilizer with reduced or loss of control of the airplane.

(d) What actions must I accomplish to address this problem? To address this problem, you must accomplish the following:

Actions | Compliance | Procedures
(1) Maintenance Records Check: | Within the next 50 hours time-in-service (TIS) after May 13, 2002 (the effective date of this AD), unless already accomplished | No special procedures required to check the logbook.
(i) Check the maintenance records to determine whether a horizontal stabilizer attachment reinforcement bracket, part number (P/N) 1232624-1, shipped by Cessna from February 27, 1998, through March 17, 2000, is installed. The owner/operator holding at least a private pilot certificate as authorized by section 43.7 of the Federal Aviation Regulations (14 CFR 43.7) may perform this check
(ii) If, by checking the maintenance records, the owner/operator can positively show that a horizontal stabilizer attachment reinforcement bracket, P/N 1232624-1, shipped by Cessna from February 27, 1998, through March 17, 2000, is not installed, then the inspection requirement of paragraph (d)(2) and the replacement requirement of paragraph (d)(3) of this AD do not apply. You must make an entry into the aircraft records that shows compliance with this portion of the AD, in accordance with section 43.9 of the Federal Aviation Regulations (14 CFR 43.9)
(2) Inspection: Visually inspect the right and left horizontal stabilizer attachment reinforcement brackets, part number (P/N) 1232624-1, for the existence of seam welds along both the lower inboard and outboard wall/flange | Within the next 50 hours TIS after May 13, 2002 (the effective date of this AD), unless already accomplished | In accordance with the Accomplishment Instructions in Cessna Service Bulletin SEB00-10, dated November 6, 2000, and the applicable maintenance manual.
(3) Replacement: | Accomplish any necessary replacements prior to further flight after the inspection required by paragraph (d)(2) of this AD, unless already accomplished | In accordance with the Accomplishment Instructions in Cessna Service Bulletin SEB00-10, dated November 6, 2000, and the applicable maintenance manual.
(i) If no seam weld is found along both the lower inboard and outboard wall/flange on the right and left horizontal stabilizer attachment reinforcement bracket during the inspection required in paragraph (d)(2) of this AD, replace with a new or airworthy P/N 1232624-1 horizontal stabilizer attachment reinforcement bracket.
(ii) If the right and left horizontal stabilizer attachment reinforcement bracket has seam welds along both the lower inboard and outboard wall/flange, no further action is required
(4) Installation Prohibition: Do not install any P/N 1232624-1 horizontal stabilizer attachment reinforcement bracket (or FAA-approved equivalent part) unless the bracket: | As of May 13, 2002 (the effective date of this AD) | Not applicable.

(i) is inspected as required in paragraph (d)(2) of this AD; and

(ii) has seam welds along both the lower inboard and outboard wall/flange.

(e) Can I comply with this AD in any other way? You may use an alternative method of compliance or adjust the compliance time if:

(1) Your alternative method of compliance provides an equivalent level of safety; and

(2) The Manager, Wichita Aircraft Certification Office (ACO), approves your alternative. Submit your request through an FAA Principal Maintenance Inspector, who may add comments and then send it to the Manager, Wichita ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Al Phillips, Aerospace Engineer, Wichita Aircraft Certification Office, FAA, 1801 Airport Road, Mid-Continent Airport, Wichita, Kansas 67209; telephone: (316) 946-4116; facsimile: (316) 946-4407.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Cessna Service Bulletin SEB00-10, dated November 6, 2000. The Director of the Federal Register approved this incorporation by reference under 5 U.S.C. 552(a) and 1 CFR part 51. You can get copies from Cessna Aircraft Company, Product Support, P.O. Box 7706, Wichita, Kansas 67277. You can look at copies at the FAA, Central Region, Office of the Regional Counsel, 901 Locust, Room 506, Kansas City, Missouri, or at the Office of the Federal Register, 800 North Capitol Street, NW., suite 700, Washington, DC.

(i) When does this amendment become effective? This amendment becomes effective on May 13, 2002.

Issued in Kansas City, Missouri, on March 22, 2002.
Dorenda D. Baker,
Acting Manager, Small Airplane Directorate, Aircraft Certification Service.

[FR Doc. 02-7645 Filed 4-2-02; 8:45 am]

BILLING CODE 4910-13-U